DEPARTMENT OF HEALTH AND HUMAN SERVICES

Centers for Disease Control and Prevention

World Trade Center Health Program; Notices of Funding Opportunities Public Information Sessions

AGENCY: Centers for Disease Control and Prevention (CDC), Department of Health and Human Services (HHS).

ACTION: Notice of public information sessions.

SUMMARY: The Centers for Disease Control and Prevention's (CDC) National Institute for Occupational Safety and Health (NIOSH), in the Department of Health and Human Services, announces two public information sessions to provide information on current research funding opportunities published by the World Trade Center (WTC) Health Program. These sessions will provide information to members of the public who may be interested in submitting applications for funding consideration on the scope of the announcements, the application process, the peer review process. CDC staff, including individuals from the NIOSH Office of Extramural Programs (OEP), the WTC Health Program, and CDC's Office of Grants Services (OGS) will answer questions about the four notices of funding opportunities (NOFOs) for FY2024 listed in this notice.

DATES: Public information sessions will be held on October 17 and 18, 2023, 2 p.m. to 3:30 p.m. Eastern Time.

FOR FURTHER INFORMATION CONTACT: Rachel Weiss, Program Analyst, 1090 Tusculum Avenue, MS: C-46, Cincinnati, OH 45226; Telephone (404) 498-2500 (this is not a toll-free number); Email NIOSHregs@cdc.gov.

Primary Points of Contact:

• Scientific/Research (NIOSH OEP)—Dr. James Yiin: (513) 841-4271, JCY5@cdc.gov.

• Peer Review (NIOSH OEP)—Ms. Laurel Garrison: (513) 533-8324, LEE5@cdc.gov.

• Financial/Grants Management (CDC OGS)—Ms. Christina Park: (404) 498-0572, LSK1@cdc.gov. Ms. Brownie Anderson-Rana: (770) 488-2771, FLI2@cdc.gov.

SUPPLEMENTARY INFORMATION: Title I of the James Zadroga 9/11 Health and Compensation Act of 2010 (Pub. L. 111-347, as amended by Pub. L. 114-113, 116-59 and 117-328), added Title XXXIII to the Public Health Service (PHS) Act,¹ establishing the WTC Health Program within the Department of Health and Human Services (HHS). Research conducted under the Zadroga Act includes epidemiologic and other research studies on WTC-related health conditions or emerging conditions among (1) WTC responders, screening-eligible WTC survivors, and certified-eligible WTC survivors under treatment; (2) individuals who meet geographic and exposure requirements for enrollment in the WTC Health Program but are not enrolled; and (3) sampled populations outside the New York City disaster area in Manhattan as far north as 14th Street and in Brooklyn, along with control populations, to identify potential for long-term adverse health effects in less exposed populations.

¹ Title XXXIII of the PHS Act is codified at 42 U.S.C. 300mm to 300mm-62. Those portions of the James Zadroga 9/11 Health and Compensation Act of 2010 found in Titles II and III of Public Law 111-347 do not pertain to the WTC Health Program and are codified elsewhere.

The Zadroga Act also requires that the WTC Health Program establish a research program addressing the following topics:

• Physical and mental health conditions that may be related to the September 11, 2001, terrorist attacks;

• Diagnosing WTC-related health conditions for which there has been diagnostic uncertainty; and

• Treating WTC-related health conditions for which there has been treatment uncertainty.

Funding Opportunity Status

New

1. RFA-OH-24-002 Exploratory/Developmental Grants on Lifestyle Medicine Research Related to the World Trade Center Health Program (R21).

a. Published in the NIH Guide and available at https://grants.nih.gov/grants/guide/rfa-files/RFA-OH-24-002.html.

b. View Grant Opportunity in grants.gov at https://www.grants.gov/web/grants/view-opportunity.html?oppId=347747.

2. RFA-OH-24-003 Exploratory/Developmental Grants Related to the World Trade Center Survivors (R21—No Applications with Responders Accepted).

a. Published in the NIH Guide and available at https://grants.nih.gov/grants/guide/rfa-files/RFA-OH-24-003.html.

b. View Grant Opportunity in grants.gov at https://www.grants.gov/web/grants/view-opportunity.html?oppId=347748.

3. RFA-OH-24-004 World Trade Center Health Program Mentored Research Scientist Career Development Award (K01).

a. Published in the NIH Guide and available at https://grants.nih.gov/grants/guide/rfa-files/RFA-OH-24-004.html.

b. View Grant Opportunity in grants.gov at https://www.grants.gov/web/grants/view-opportunity.html?oppId=347827.

Applications for each of these funding opportunities must be submitted to, and validated successfully by, Grants.gov or eRA systems, no later than 5:00 p.m. U.S. Eastern Time on December 5, 2023. Applicants are strongly encouraged to complete the application process early to ensure adequate time to correct any error or warning notices of noncompliance identified by Grants.gov or eRA systems.

Continuing

The following research funding opportunity has been updated for the type of project, period of performance, and total funds that can be requested:

1. PAR-20-280 Cooperative Research Agreements Related to the World Trade Center Health Program (U01).

a. Published in the NIH Guide and available at https://grants.nih.gov/grants/guide/pa-files/PAR-20-280.html. An update for PAR-20-280 is also available at https://grants.nih.gov/grants/guide/notice-files/NOT-OH-23-002.html.

b. View Grant Opportunity in grants.gov at https://www.grants.gov/web/grants/view-opportunity.html?oppId=329315.

Applications must be submitted to, and validated successfully by, Grants.gov/eRA systems no later than 5:00 p.m. Eastern Time on December 5, 2023. Applicants are strongly encouraged to complete the application process early to ensure adequate time to correct any error or warning notices of noncompliance identified by Grants.gov or eRA systems.

Closed

The following research funding opportunity is closed for receipt of additional applications:

1. RFA-OH-22-004 World Trade Center Health Research-Related to WTC Survivors (U01 no Applications with Responders Accepted), link for reference only: https://grants.nih.gov/grants/guide/rfa-files/RFA-OH-22-004.html.

Applicants may consider the funding opportunities listed under New and Continuing.

Public Information Sessions

On October 17 and 18, 2023, from 2 p.m. to 3:30 p.m. Eastern Time, CDC OGS, NIOSH OEP, and the WTC Health Program will hold two public information sessions, during which the Agency will provide information on the scope of the four NOFOs for FY2024 listed above, as well as information about the application process and the peer review process. Interested applicants will have opportunities to ask questions about the four new and continuing NOFOs and are encouraged to submit questions in advance to the individuals named as primary points of contact above. To participate in either public information session by Zoom or telephone, please follow the instructions at https://www.cdc.gov/wtc/research.html#fundingOpportunities.

This notice is not a request for information. CDC OGS, NIOSH OEP, and the WTC Health Program will not take comments during the information sessions. These sessions are intended only to provide information to interested applicants.

John J. Howard,
Administrator, World Trade Center Health Program and Director, National Institute for Occupational Safety and Health, Centers for Disease Control and Prevention, Department of Health and Human Services.

[FR Doc. 2023-20636 Filed 9-22-23; 8:45 am]

BILLING CODE 4163-18-P